DEPARTMENT OF ENERGY

Federal Energy Regulatory Commission

[Project No. 7569-006]

University of Notre Dame; Notice of Application Accepted for Filing, Soliciting Comments, Motions To Intervene, and Protests

Take notice that the following hydroelectric application has been filed with the Commission and is available for public inspection. Please note that this application was previously noticed by the Commission on October 3, 2017. However, due to a clerical error, the Commission is reissuing this notice for public comment. There have been no significant changes to the exemptee's application since the October 3, 2017.

a. Type of Application: Application to amend 5 MW exemption from licensing.

b. Project No.: 7569-006.

c. Date Filed: April 24, 2017, and supplemented on September 21, 2017.

d. Applicant: University of Notre Dame.

e. Name of Project: South Bend Hydroelectric Project.

f. Location: The project is located on the St. Joseph River in St. Joseph County, Indiana.

g. Filed Pursuant to: 18 CFR 4.104 (2016).

h. Applicant Contact: Mr. Paul A. Kempf, University of Notre Dame, 100 Facilities Building, Notre Dame, IN 46556, (574) 631-0142.

i. FERC Contact: Jennifer Polardino, (202) 502-6437, or Jennifer.Polardino@ferc.gov.

j. Deadline for filing comments, motions to intervene, protests, and recommendations is 30 days from the issuance date of this notice by the Commission.

The Commission strongly encourages electronic filing. Please file motions to intervene, protests, comments, or recommendations using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. Please include the project number (P-7569-006) on any comments, motions to intervene, protests, or recommendations filed.

k. Project as Authorized: The South Bend project consists of: (1) An existing reservoir with a surface area of 150 acres and a storage capacity of 800 acre-feet at a pool elevation of 680 feet mean sea level; (2) an existing concrete and timber-crib dam approximately 18-feet-high and 435 feet long; (3) powerhouse containing one 50-kilowatt (kW) and two 890 kW generating units, for a total authorized capacity of 1,830 kW; and (4) appurtenant facilities.

l. Description of Request: The exemptee requests approval to amend the exemption for the South Bend Hydroelectric Project with the following modifications to the project's facilities: Ten 250 kilowatt (kW) units for a total generating capacity of 2,500 kW; a 390-foot-long conveyance channel, a coarse trash rack at the inlet to the conveyance channel; a secondary trash rack with a traveling brush; and a 1.5 mile long, 1.47 kilovolt transmission line buried from the hydro site to the tie-in point at the Notre Dame campus. The proposed modifications would require changes to the project's boundary.

m. Locations of the Application: A copy of the application is available for inspection and reproduction at the Commission's Public Reference Room, located at 888 First Street NE, Room 2A, Washington, DC 20426, or by calling (202) 502-8371. This filing may also be viewed on the Commission's website at http://www.ferc.gov/docs-filing/elibrary.asp. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above.

n. Individuals desiring to be included on the Commission's mailing list should so indicate by writing to the Secretary of the Commission.

o. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

p. Filing and Service of Responsive Documents: Any filing must (1) bear in all capital letters the title COMMENTS, PROTEST, or MOTION TO INTERVENE as applicable; (2) set forth in the heading, the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to project works which are the subject of the license amendment. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: February 6, 2018.
Kimberly D. Bose,
Secretary.

[FR Doc. 2018-02785 Filed 2-9-18; 8:45 am]

BILLING CODE 6717-01-P